COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List services to be furnished by nonprofit agencies employing persons who are blind or have other severe disabilities.

Comments Must Be Received on or Before: July 23, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

If the Committee approves the proposed additions, the entities of the Federal Government identified in the notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Administrative Services, GSA, Federal Technology Service, Office of Service Delivery, 10300 Eaton Place, 5th Floor, Fairfax, Virginia.

NPA: ServiceSource, Inc., Alexandria, Virginia.

Contracting Activity: GSA, Federal Technology Service, Ft. Huachuca, Arizona.

Service Type/Location: Custodial Services, U.S Department of Agriculture, 6300 NW 36th Street, Miami, Florida.

NPA: Goodwill Industries of South Florida, Inc., Miami, Florida.

Contracting Activity: USDA, Animal & Plant Health Inspection Service-PFQ, Minneapolis, MN.

Service Type/Location: Laundry Service, USDA, National Animal Disease Center, 2300 Dayton Avenue, Ames, Iowa.

NPA: Genesis Development, Jefferson, Iowa.

Contracting Activity: USDA, Agriculture Research Service, Peoria, Illinois.

Service Type/Location: Linen Exchange and Laundry Service, 1st Medical Group Medical Treatment Facility (MTF). At the following locations at Langley AFB, Virginia: Main Facility—45 Pine Road, Dental Clinic—76 Nealy Avenue, Flight Medicine—Building 74, Physical Therapy—Building 267.

NPA: Louise W. Eggleston Center, Inc., Norfolk, Virginia.

Contracting Activity: 1st Contracting Squadron/LGCS, Langley AFB, Virginia.

G. John Heyer,
General Counsel.

[FR Doc. E6-9925 Filed 6-22-06; 8:45 am]

BILLING CODE 6353-01-P